NUCLEAR REGULATORY COMMISSION

[Docket No. 50-368]

Notice of Correction to Federal Register Notice in the Matter of Entergy Operations, Inc. (Arkansas Nuclear One, Unit 2); Exemption

On October 18, 2000, the Federal Register published an Exemption to Facility Operating License No. NPF-6, which authorizes operation of Arkansas Nuclear One, Unit 2. On page 62376, in the last sentence of Section IV, a date was omitted. The sentence should read: “The staff's detailed Safety Evaluation (and this exemption) are enclosures in the letter to the licensee dated October 12, 2000.”

Dated at Rockville, Maryland, this 26th day of October 2000.
For the Nuclear Regulatory Commission.
John A. Zwolinski,
Director, Division of Licensing Project Management, Office of Nuclear Reactor Regulation.

[FR Doc. 00-28124 Filed 11-1-00; 8:45 am]

BILLING CODE 7590-01-P